DEPARTMENT OF ENERGY

Federal Energy Regulatory Commission

[Docket No. CP01-64-000]

Trailblazer Pipeline Company; Notice of Intent To Prepare an Environmental Assessment for the Proposed Trailblazer Expansion Project and Request for Comments on Environmental Issues

Correction

In notice document 01-3144 beginning on page 9312 in the issue of Wednesday February 7, 2001, make the following correction:

On page 9312, in the second column, in the heading, the date “February 2, 2001” should read “February 1, 2001”.

[FR Doc. C1-3144 Filed 2-14-01; 8:45 am]

BILLING CODE 1505-01-D

FEDERAL COMMUNICATIONS COMMISSION

47 CFR Parts 20 and 22

[WT Docket No. 01-14; FCC 01-28]

2000 Biennial Regulatory Review-Spectrum Aggregation Limits for Commercial Mobile Radio Services

Correction

In proposed rule document 01-3521 beginning on page 9798 in the issue of Monday, February 12, 2001, make the following correction:

On page 9798, in the second column, under the heading DATES, in the third line “March 14, 2001” should read “May 14, 2001”.

[FR Doc. C1-3521 Filed 2-14-01; 8:45 am]

BILLING CODE 1505-01-D